DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by December 4, 2023 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food and Nutrition Service

Title: Special Supplemental Nutrition Program for Women, Infants, and Children (WIC) Breastfeeding Award of Excellence.

OMB Control Number: 0584-0591.

Summary of Collection: The Healthy, Hunger-Free Kids Act of 2010 (HHFKA) (Pub. L. 111-296, Sec 231) requires the U.S. Department of Agriculture (USDA) to implement a program to recognize exemplary breastfeeding support practices at Women, Infants, and Children (WIC) local agencies and clinics. The WIC program, of which the breastfeeding award of excellence is a part, is authorized by the Child Nutrition Act of 1966 (42 U.S.C. 1787). The WIC Program provides breastfeeding promotion and support for pregnant and postpartum mothers as a part of its mission to improve the health of the approximately 6 million Americans it serves each month. Breastfeeding is a priority in WIC and WIC mothers are strongly encouraged to breastfeed their infants unless medically contraindicated.

Need and Use of the Information: While HHFKA mandates that the USDA provide a program to recognize exemplary breastfeeding support practices, it is voluntary for the WIC local agencies and clinics to apply for an award. Information is collected from the WIC local agencies to apply for an award and used by the WIC state agencies to evaluate the applications. The award application period is open once annually and has been designed to allow local WIC agencies at different stages of progress in breastfeeding promotion and support program development to apply for an award. The information collection will meet the HHFKA requirement to implement a program to recognize exemplary breastfeeding support practices at WIC local agencies and clinics. The information collected through this program will be used to evaluate components of existing breastfeeding programs and support within WIC local agencies, to recognize local WIC agencies that provide exemplary breastfeeding programs and support services, and to provide examples of model programs to motivate local agencies and clinics to strengthen their breastfeeding promotion and support activities.

Description of Respondents: State, Local, or Tribal Government.

Number of Respondents: 239.

Frequency of Responses: Reporting: Annually.

Total Burden Hours: 514.

Ruth Brown,
Departmental Information Collection Clearance Officer.

[FR Doc. 2023-24264 Filed 11-2-23; 8:45 am]

BILLING CODE 3410-30-P